ENVIRONMENTAL PROTECTION AGENCY

[FRL-6853-1]

Notice of Availability for Draft Guidance on BACT for NOX Control at Combined Cycle Turbines

AGENCY: Environmental Protection Agency (EPA).

ACTION: Notice of availability.

SUMMARY: The EPA is making available for public review and comment a preliminary draft of its pending guidance on BACT for NOX Control on Combined Cycle Turbines. Several issues have been brought to EPA's attention as a result of recent controversies involving State permitting agencies, utilities, and turbine manufacturers over appropriate best available control technology (BACT) controls for NOX at natural gas combined cycle turbines for electric power generation. Selective Catalytic Reduction (SCR) has been considered BACT for limiting NOX emissions on many natural gas combined cycle turbines in attainment areas. These issues have to do with the impact of requiring selective catalytic reduction on dry low NOX natural gas combined cycle turbines for electric generation.

The BACT is required for new or modified major sources in order to prevent significant deterioration of air quality in attainment areas. The Clean Air Act allows permitting authorities to weigh environmental, energy, and economic concerns against the proven environmental benefits of technologies such as SCR in making BACT determinations in order to determine whether a less effective technology for NOX control is warranted in specific cases. In the case of dry low NOX natural gas combined cycle turbines, the NOX reduction that SCR achieves is sufficiently small that other considerations may become relatively important to consider in determining BACT. The guidance and supporting background information review those considerations.

A draft of EPA's guidance is available for public review and comment. The EPA does not intend to respond to individual comments, but rather to consider the comments from the public in the preparation of the final guidance. It is important that the draft guidance being made available today for public review and comment does not represent official EPA policy or a formal position on the subject matter discussed and therefore is not to be relied on in interpreting EPA policy.

DATES: The comment period on the draft guidance will close on September 18, 2000.

ADDRESSES: Written comments should be sent to Pamela J. Smith, Information Transfer and Program Integration Division (MD-12), Office of Air Quality Planning and Standards, U.S. EPA, Research Triangle Park, North Carolina 27711, telephone 919-541-0641, telefax 919-541-5509 or E-mail smith.pam@epa.gov.

FOR FURTHER INFORMATION CONTACT: Ellen Brown, Office of Policy Analysis and Review, U.S. EPA, 1200 Pennsylvania Avenue, Washington, DC 20460, telephone 202-564-1669 or E-mail brown.ellen@epa.gov.

SUPPLEMENTARY INFORMATION: A copy of the draft guidance document may be obtained by calling or E-mailing Pamela J. Smith. The draft guidance may also be downloaded from the NSR Web Site http://www.epa.gov/ttn/nsr under the topic “What's New on NSR.”

Dated: August 9, 2000.
John S. Seitz,
Director, Office of Air Quality Planning and Standards.

[FR Doc. 00-20971 Filed 8-16-00; 8:45 am]

BILLING CODE 6560-50-P